DEPARTMENT OF TRANSPORTATION

Federal Aviation Administration

Waiver of Aeronautical Land-Use Assurance: Rolla National Airport (VIH), Rolla, MO

AGENCY: Federal Aviation Administration (FAA), DOT.

ACTION: Notice of Intent of Waiver with respect to land.

SUMMARY: The Federal Aviation Administration (FAA) is considering a proposal from the City of Rolla (sponsor), Rolla, MO, to release a 10 acre parcel (Lot 1) of land from the federal obligation dedicating it to aeronautical use and to authorize this parcel to be used for revenue-producing, non-aeronautical purposes.

DATES: Comments must be received on or before April 11, 2013.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: John Butz, City Administrator, City of Rolla, 901 N. Elm St., Rolla, MO 65401, (573) 426-6948.

FOR FURTHER INFORMATION CONTACT: Lynn D. Martin, Airports Compliance Specialist, Federal Aviation Administration, Airports Division, ACE-610C, 901 Locust Room 364, Kansas City, MO 64106, Telephone number (816) 329-2644, Fax number (816) 329-2611, email address: lynn.martin@faa.gov.

SUPPLEMENTARY INFORMATION: The FAA invites public comment on the request to change approximately 10 acres of airport property at the Rolla National Airport (VIH) from aeronautical use to non-aeronautical for revenue producing use. The parcel of land is located along the Southwest corner of the airport, near Missouri State Highway 28. This parcel will be used for construction and operation of The Brewer Science Building. Brewer Science is a high technology electronics firm that produces products such as anti-reflective coating, lift-off materials, protective coatings, temporary bondings, etc. which is headquartered in Rolla. The firm conducts business around the world with an emphasis in North America, Europe and China.

No airport landside or airside facilities are presently located on this parcel, nor are airport developments contemplated in the future. There is no current use of the surface of the parcel. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Rolla National Airport (VIH) is proposing the release of one parcel, of 10 acres, more or less from aeronautical to non-aeronautical. The release of land is necessary to comply with Federal Aviation Administration Grant Assurances that do not allow federally acquired airport property to be used for non-aviation purposes. The rental of the subject property will result in the land at the Rolla National Airport (VIH) being changed from aeronautical to nonaeronautical use and release the lands from the conditions of the Airport Improvement Program Grant Agreement Grant Assurances. In accordance with 49 U.S.C. 47107(c)(2)(B) (i) and (iii), the airport will receive fair market rental value for the property. The annual income from rent payments will generate a long-term, revenue-producing stream that will further the Sponsor's obligation under FAA Grant Assurance number 24, to make the Rolla National Airport as financially self-sufficient as possible.

Following is a legal description of the subject airport property at the Rolla National Airport (VIH):

A fractional part of the Southwest Quarter of Section 2, Township 39 North, Range 8 West of the 5th P.M. described as follows: Commencing at the Southwest Corner of said Section 2; thence North 38°25′20″ East, 1062.05 feet to the southeasterly right of way of Missouri Highway 28, being a point left of Station 647+00; thence North 34°35′40″ East, 817.43 feet along said southeasterly right of way to the true point of beginning of the hereinafter described tract: Thence continuing North 34°35′40″ East, 612.29 feet along said southeasterly right of way; thence South 43°54′30″ East, 787.11 feet; thence South 46°06′30″ West, 600.00 feet; thence North 43°54′30″ West, 664.89 feet to the true point of beginning. Above described tract contains 10.00 acres, more or less, per plat of survey J-475, dated June 15, 2012, by Archer-Elgin Surveying and Engineering, LLC.

Any person may inspect, by appointment, the request in person at the FAA office listed above FOR FURTHER INFORMATION CONTACT. In addition, any person may, upon appointment and request, inspect the application, notice and other documents determined by the FAA to be related to the application in person at the Rolla National Airport.

Issued in Kansas City, MO, on February 25, 2013.
Jim A. Johnson,
Manager, Airports Division.

[FR Doc. 2013-05579 Filed 3-11-13; 8:45 am]

BILLING CODE 4910-13-P